DEPARTMENT OF HEALTH AND HUMAN SERVICES

Meeting of the Advisory Committee on Blood and Tissue Safety and Availability; Amendment

AGENCY: Department of Health and Human Services, Office of the Secretary, Office of the Assistant Secretary for Health.

ACTION: Notice; amendment.

SUMMARY: A notice was published in the Federal Register on Monday, March 11, 2019 (Vol. 84, No. 47, pages 8731-8732), to give notice that the Advisory Committee on Blood and Tissue Safety and Availability (ACBTSA) will hold a meeting on April 15-16, 2019. The notice is being amended to include a registration link for any individuals who wish to attend the meeting in-person, as well as a link to the ACBTSA website for more information.

DATES: The meeting will take place Monday April 15, 2019, from 8 a.m.-4:30 p.m. and Tuesday April 16, 2019, from 8:30 a.m.-4 p.m.

ADDRESSES: U.S. Department of Health & Human Services, Hubert H. Humphrey Building, (Conference Room 800), 200 Independence Ave. SW, Washington, DC 20201. Members of the public may also attend the meeting via webcast. Instructions for attending this virtual meeting will be posted prior to the meeting at: https://www.hhs.gov/ash/advisory-committees/tickbornedisease/meetings/index.html.

FOR FURTHER INFORMATION CONTACT: Mr. James Berger, Designated Federal Officer for the ACBTSA, Senior Advisor for Blood and Tissue Policy, Office of the Assistant Secretary for Health, Department of Health and Human Services, Mary E. Switzer Building, 330 C Street SW, Suite L100, Washington, DC 20024. Phone: (202) 795-7697; Fax: (202) 691-2102; Email: ACBTSA@hhs.gov.

SUPPLEMENTARY INFORMATION: In-person attendance at the meetings is limited by security restrictions and the space available; therefore preregistration for public members is required and can be accomplished by registering at https://www.eventbrite.com/e/50th-meeting-of-the-hhs-advisory-committee-on-blood-tissue-safety-availability-tickets-55285257694 by Monday, April 8, 2019. Members of the public may also attend the meeting via webcast. Instructions for attending this virtual meeting will be posted prior to the meeting at: https://www.hhs.gov/ash/advisory-committees/tickbornedisease/meetings/index.html. Non-U.S. citizens who plan to attend in person are required to provide additional information and must notify the Working Group support staff via email at tickbornedisease@hhs.gov before March 15, 2019. Members of the public who wish to attend the meetings should enter from Independence Avenue. Please allow extra time to get through security.

Dated: March 13, 2019.
James J. Berger,
Senior Advisor for Blood and Tissue Policy.

[FR Doc. 2019-05716 Filed 3-25-19; 8:45 am]

BILLING CODE 4150-28-P